DEPARTMENT OF DEFENSE

Department of the Navy

[USN-2008-0025]

Privacy Act of 1974; System of Records

AGENCY: Department of the Navy, DoD.

ACTION: Notice to Amend a System of Records.

SUMMARY: The Department of the Navy is amending a system of records notice in its existing inventory of record systems subject to the Privacy Act of 1974, (5 U.S.C. 552a), as amended.

DATES: This proposed action will be effective without further notice on May 12, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: April 4, 2008.
L.M. Bynum,
Alternate OSD Federal Register Liaison Officer, Department of Defense.

NM05380-1

System name:

Combined Federal Campaign/Navy and Marine Corps Relief Society (November 16, 2004, 69 FR 67128).

Changes:

* * * * *

System location:

In para 1, delete “http://neds.daps.dla.mil/sndl.htm” and replace with “http://doni.daps.dla.mil/sndl.aspx”.

* * * * *

System manager(s) and address:

Replace “http://neds.daps.dla.mil/sndl.htm” with “http://doni.daps.dla.mil/sndl.aspx”.

Notification procedure:

Replace “http://neds.daps.dla.mil/sndl.htm” with “http://doni.daps.dla.mil/sndl.aspx”.

Record access procedures:

Replace “http://neds.daps.dla.mil/sndl.htm” with “http://doni.daps.dla.mil/sndl.aspx”.

* * * * *

NM05380-1

System name:

Combined Federal Campaign/Navy and Marine Corps Relief Society.

System location:

Organizational elements of the Department of the Navy. Official mailing addresses are published in the Standard Navy Distribution List (SNDL) that is available at http://doni.daps.dla.mil/sndl.aspx.

Commander, U.S. Joint Forces Command, 1562 Mitscher Avenue, Suite 200, Norfolk, VA 23551-2488.

Commander, U.S. Pacific Command, P.O. Box 64028, Camp H.M. Smith, HI 96861-4028.

Categories of individuals covered by the system:

All assigned personnel.

Categories of records in the system:

Names, addresses, Social Security Numbers(SSN), payroll identifying data, contributor cards and lists.

Authority for maintenance of the system:

10 U.S.C. 5013, Secretary of the Navy; 10 U.S.C. 5041, Headquarters, Marine Corps; and, E.O. 9397 (SSN), 10927 and 12353.

Purpose(s):

To manage the Combined Federal Campaign and Navy and Marine Corps Relief Society Fund drives and provide the respective campaign coordinator with necessary information. Payroll deduction contribution data is supplied to the Defense Finance and Accounting Service.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Manual and computerized records.

Retrievability:

Name, Social Security Number (SSN), and organization.

Safeguards:

Access provided on need-to-know basis only. Manual records maintained in file cabinets under the control of authorized personnel during working hours. The office space in which the file cabinets are located is locked outside of official working hours. Computer terminals are located in supervised areas. Access to computerized data controlled by password or other user code system.

Retention and disposal:

Records are maintained for one year or completion of next equivalent campaign and then destroyed.

System manager(s) and address:

Commanding officer of the activity in question. Official mailing addresses are published in the Standard Navy Distribution List (SNDL) that is available at http://doni.daps.dla.mil/sndl.aspx.

Notification procedure:

Individuals seeking to determine whether this system of records contains information about themselves should address written inquiries to the commanding officer of the naval activity where currently or previously employed. Official mailing addresses are published in the Standard Navy Distribution List (SNDL) that is available at http://doni.daps.dla.mil/sndl.aspx.

The request should include full name, Social Security Number (SSN), address of the individual concerned, and should be signed.

Record access procedures:

Individuals seeking access to records about themselves contained in this system of records should address written inquiries to the commanding officer of the naval activity where currently or previously employed. Official mailing addresses are published in the Standard Navy Distribution List (SNDL) that is available at http://doni.daps.dla.mil/sndl.aspx.

The request should include full name, Social Security Number (SSN), address of the individual concerned, and should be signed.

Contesting record procedures:

The Department of the Navy's rules for accessing records, and for contesting contents and appealing initial agency determinations are published in Secretary of the Navy Instruction 5211.5; 32 CFR part 701; or may be obtained from the system manager.

Record source categories:

Individual; payroll files; personnel files.

Exemptions claimed for the system:

None.

[FR Doc. E8-7609 Filed 4-9-08; 8:45 am]

BILLING CODE 5001-06-P